DEPARTMENT OF EDUCATION

[Docket No.: ED-2024-SCC-0080]

Agency Information Collection Activities; Submission to the Office of Management and Budget for Review and Approval; Comment Request; Evaluation of the REL Southeast Early Literacy Toolkit

AGENCY: Institute of Education Sciences (IES), Department of Education (ED).

ACTION: Notice.

SUMMARY: In accordance with the Paperwork Reduction Act (PRA) of 1995, the Department is proposing a new information collection request (ICR).

DATES: Interested persons are invited to submit comments on or before September 27, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Janelle Sands, 202-245-6786.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the REL Southeast Early Literacy Toolkit.

OMB Control Number: 1850-NEW.

Type of Review: A new ICR.

Respondents/Affected Public: Individuals and Households.

Total Estimated Number of Annual Responses: 1,330.

Total Estimated Number of Annual Burden Hours: 322.

Abstract: The U.S. Department of Education is supporting the development and evaluation of a toolkit that will support the implementation of effectively differentiated reading instruction for students in grades K-3. This toolkit is based on evidence-based recommendation in the Assisting Students Struggling with Reading: Response to Intervention (RtI) and Multi-Tier Intervention in the Primary Grades practice guide. The evaluation will rigorously test the efficacy of the toolkit in improving explicit instruction, classroom management, and use of student data as well as student learning outcomes in grades K-3 English language arts. The evaluation will use a blocked randomized control trial design in which districts are blocks and schools are randomly assigned to receive the toolkit or not. The evaluation will be conducted in 20 Florida schools during the 2025/26 school year.

The evaluation will focus on measuring the toolkit's impact on three teacher-level outcomes: explicit instruction, classroom management, and data use to inform instruction during small group time. The evaluation also will examine the impact of the toolkit on students' foundational reading skills.

In addition to collecting data to measure teacher and student outcomes, the evaluation team will collect data to document the implementation of the toolkit in treatment schools and the service contrast between treatment and control schools, and to describe the characteristics of participating schools, teachers, and students at baseline.

The evaluation will produce a publicly available report that summarizes evaluation findings. The findings from the evaluation will inform further refinement of the toolkit, to be released to the public after the evaluation.

Dated: August 22, 2024.
Juliana Pearson,
PRA Coordinator, Strategic Collections and Clearance, Governance and Strategy Division, Office of Chief Data Officer, Office of Planning, Evaluation and Policy Development.

[FR Doc. 2024-19293 Filed 8-27-24; 8:45 am]

BILLING CODE 4000-01-P